DEPARTMENT OF TRANSPORTATION

Federal Aviation Administration

14 CFR Part 39

[Docket No. 97-NM-235-AD; Amendment 39-12861; AD 2002-16-22]

RIN 2120-AA64

Airworthiness Directives; Boeing Model 727 Series Airplanes Modified in Accordance With Supplemental Type Certificate SA1444SO, SA1509SO, SA1543SO, or SA1896SO

AGENCY: Federal Aviation Administration, DOT.

ACTION: Final rule; correction.

SUMMARY: This document corrects an error that appeared in airworthiness directive (AD) 2002-16-22 (final rule, correction) that was published in the Federal Register on August 16, 2004 (69 FR 50299). The error resulted in an incorrect reference to certain supplemental type certificates. This AD is applicable to certain Boeing Model 727 series airplanes that have been converted from a passenger- to a cargo-carrying (“freighter”) configuration. This AD requires, among other actions, installation of a fail-safe hinge, redesigned main deck cargo door warning and power control systems, and 9g crash barrier.

DATES: Effective September 19, 2002.

FOR FURTHER INFORMATION CONTACT: M. Hassan Amani, Aerospace Engineer, Airframe Branch, ACE-117A, FAA, Atlanta Aircraft Certification Office, One Crown Center, 1895 Phoenix Boulevard, suite 450, Atlanta, Georgia 30349; telephone (770) 703-6080; fax (770) 703-6097.

SUPPLEMENTARY INFORMATION: Airworthiness Directive (AD) 2002-16-22, amendment 39-12861, applicable to certain Boeing Model 727 series airplanes that have been converted from a passenger- to a cargo-carrying (“freighter”) configuration, was published in the Federal Register on August 15, 2002 (67 FR 53434). That AD requires, among other actions, installation of a fail-safe hinge, redesigned main deck cargo door warning and power control systems, and 9g crash barrier.

On August 16, 2004, we issued a final rule, correction (69 FR 50299, August 16, 2004), to AD 2002-16-22. The final rule, correction corrects an error that resulted in an incorrect reference to a supplemental type certificate. As published, the title of final rule, correction states “Boeing Model 727 Series Airplanes Modified with Supplemental Type Certificate SA1767S0 or SA1768SO.” However, the correct applicable supplemental type certificates (STC) are SA1444SO, SA1509SO, SA1543SO, or SA1896SO, as specified in AD 2002-16-22.

Since no other part of the regulatory information has been changed, the final rule is not being republished in the Federal Register.

The effective date of this AD remains September 19, 2002.

§ 39.13 [Corrected]

On page 50299, in the second column, the title of AD 2002-16-22 is corrected to read as follows:

* * * * *

Airworthiness Directives; Boeing Model 727 Series Airplanes Modified in Accordance with Supplemental Type Certificate SA1444SO, SA1509SO, SA1543SO, or SA1896SO.

* * * * *

Issued in Renton, Washington, on September 20, 2004.
Kalene C. Yanamura,
Acting Manager, Transport Airplane Directorate, Aircraft Certification Service.

[FR Doc. 04-21815 Filed 10-6-04; 8:45 am]

BILLING CODE 4910-13-P